DEPARTMENT OF TRANSPORTATION

Federal Aviation Administration

14 CFR Part 71

[Docket No. FAA-2010-0911; Airspace Docket No. 10-ASO-32]

Amendment to Class E Airspace; Smithfield, NC

AGENCY: Federal Aviation Administration (FAA), DOT.

ACTION: Final rule, technical amendment.

SUMMARY: This action amends Class E airspace at Johnston County Airport, Smithfield, NC, by correcting an omission of the geographic coordinates of the Area Navigation (RNAV) Global Positioning System (GPS) Special Standard Instrument Approach Procedure (SIAP) serving the Johnston Memorial Hospital to aid in the navigation of our National Airspace System.

DATES: Effective 0901 UTC, January 13, 2011. The Director of the Federal Register approves this incorporation by reference action under title 1, Code of Federal Regulations, part 51, subject to the annual revision of FAA Order 7400.9 and publication of conforming amendments.

FOR FURTHER INFORMATION CONTACT: Melinda Giddens, Operations Support Group, Eastern Service Center, Federal Aviation Administration, P.O. Box 20636, Atlanta, Georgia 30320; telephone (404) 305-5610.

SUPPLEMENTARY INFORMATION:

History

The FAA received a request from the National Aeronautical Navigation Services to correct the omission of the geographic coordinates for the point in space serving Johnston Memorial Hospital in the amendment of the Class E airspace published in the Federal Register on July 27, 2010 (75 FR 43817). This action makes the adjustment.

The Rule

This amendment to Title 14, Code of Federal Regulations (14 CFR) part 71 amends Class E airspace at Smithfield, NC, by making the addition of the geographic coordinates of the RNAV (GPS) approach point in space serving Johnston Memorial Hospital to coincide with the FAAs National Aeronautical Navigation Services depiction. Accordingly, since this is an administrative change, and does not involve a change in the dimensions or operating requirements of that airspace, notice and public procedures under 5 U.S.C. 553 (b) are unnecessary.

The Class E airspace designations are published in Paragraph 6005 of FAA order 7400.9U, dated August 18, 2010, and effective September 15, 2010, which is incorporated by reference in 14 CFR 71.1. The Class E airspace designations listed in this document will be published subsequently in the Order.

The FAA has determined that his regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A. Subpart I, Section 40103. Under that section, the FAA is charged with prescribing regulations to assign the use of airspace necessary to ensure the safety of aircraft and the efficient use of airspace. This regulation is within the scope of that authority as it amends controlled airspace at Smithfield, NC.

Lists of Subjects in 14 CFR Part 71

Airspace, Incorporation by reference, Navigation (Air).

Adoption of the Amendment

In consideration of the foregoing, the Federal Aviation Administration amends 14 CFR Part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9U, Airspace Designations and Reporting Points, dated August 18, 2010, and effective September 15, 2010, is amended as follows:

Paragraph 6005 Class E Airspace Extending Upward From 700 feet or More Above the Surface of the Earth

* * * * *

ASO NC E5 Smithfield, NC [Amended]

Johnston County Airport, NC

(Lat. 35°32′27″ N., long 78°23′25″ W.)

Johnston Memorial Hospital

Point In Space Coordinates

(Lat. 35°31′23″ N., long 78°20′35″ W.)

That airspace extending upward from 700 feet above the surface within a 6.5-mile radius of the Johnston County Airport and within 2 miles each side of the 023° bearing from the airport extending from the 6.5-mile radius to 10.2 miles northeast of the Johnston County Airport and within a 6-mile radius of the point in space (lat.35°31′23″ N., long. 78°20′35″ W.) serving Johnston Memorial Hospital.

Issued in College Park, Georgia, on September 17, 2010.
Myron A. Jenkins,
Acting Manager, Operations Support Group, Eastern Service Center, Air Traffic Organization.

[FR Doc. 2010-24113 Filed 9-28-10; 8:45 am]

BILLING CODE 4910-13-P